FEDERAL COMMUNICATIONS COMMISSION

47 CFR Part 73

[DA 01-388, MM Docket No. 01-43, RM-10041]

Digital Television Broadcast Service; Jackson, MS

AGENCY: Federal Communications Commission.

ACTION: Proposed rule.

SUMMARY: The Commission requests comments on a petition filed by Civic License Holding Company, Inc. licensee of WLBT-TV, NTSC channel 3, Jackson, Mississippi, requesting the substitution of DTV channel 9 for station WLBT-TV's assigned DTV channel 51. DTV Channel 9 can be allotted to Jackson, Mississippi, in compliance with the principle community coverage requirements of Section 73.625(a) at reference coordinates (32-12-49 N. and 90-2-56 W.). As requested, we propose to allot DTV Channel 9 to Jackson with a power of 3.2 and a height above average terrain (HAAT) of 610 meters.

DATES: Comments must be filed on or before April 13, 2001, and reply comments on or before April 30, 2001.

ADDRESSES: Federal Communications Commission, 445 12th Street, SW., Room TW-A325, Washington, DC 20554. In addition to filing comments with the FCC, interested parties should serve the petitioner, or its counsel or consultant, as follows: John S. Logan, Scott S. Patrick, Dow, Lohnes & Albertson, PLLC, 1200 New Hampshire Avenue, NW., Suite 800, Washington, DC 20036-6802 (Counsel for Civic License Holding Company, Inc.).

FOR FURTHER INFORMATION CONTACT: Pam Blumenthal, Mass Media Bureau, (202) 418-1600.

SUPPLEMENTARY INFORMATION: This is a synopsis of the Commission's Notice of Proposed Rule Making, MM Docket No. 01-43, adopted February 16, 2001, and released February 20, 2001. The full text of this Commission decision is available for inspection and copying during normal business hours in the FCC Reference Center, 445 12th Street, SW., Washington, DC. The complete text of this decision may also be purchased from the Commission's copy contractor, International Transcription Services, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Digital television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.622 [Amended]

2. Section 73.622(b), the Table of Digital Television Allotments under Mississippi is amended by removing DTV Channel 51 and adding DTV Channel 9 at Jackson.

Federal Communications Commission.
Barbara A. Kreisman,
Chief, Video Services Division, Mass Media Bureau.

[FR Doc. 01-4804 Filed 2-27-01; 8:45 am]

BILLING CODE 6712-01-U